FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[September 1, 2025, through January 31, 2026]
09/04/2025
20251649 | G | Giovanni Ferrero; WK Kellogg Co; Giovanni Ferrero.
20251656 | G | Woodbolt Holdings, LLC; Bloom Nu LLC; Woodbolt Holdings, LLC.
20251665 | G | GTCR Fund XIV/A LP; Moonlight TopCo, LLC; GTCR Fund XIV/A LP.
20251682 | G | Continental Grain Company; Lamb Weston Holdings, Inc.; Continental Grain Company.
20251694 | G | Energy Trading Innovations LLC; GE Vernova Inc.; Energy Trading Innovations LLC.
09/05/2025
20251732 | G | Trevor R. Burgess; Trevor R. Burgess; Trevor R. Burgess.
20251738 | G | North Coast Holdings, Inc.; Mt. Carmel Stabilization Group, Inc.; North Coast Holdings, Inc.
20251742 | G | 26N Nova Co-Investment Partners LP; CGP Big Show Holdco, L.P.; 26N Nova Co-Investment Partners LP.
20251754 | G | Cavco Industries, Inc.; Finis F. “Buck” Teeter; Cavco Industries, Inc.
09/11/2025
20251715 | G | Turbo Parent Partnership LP; Stax Holdco, LLC; Turbo Parent Partnership LP.
20251724 | G | NP Kaba Holdings, L.P.; Novo Nordisk Foundation; NP Kaba Holdings, L.P.
20251740 | G | Gem Parent, L.P.; 7Ridge Investments 3 LP; Gem Parent, L.P.
20251750 | G | Genstar Capital Partners XI, L.P.; Dr. David Berz; Genstar Capital Partners XI, L.P.
20251764 | G | FG Merger II Corp.; BOXABL Inc.; FG Merger II Corp.
20251773 | G | Sherwood TopCo Limited; Johns Lyng Group Limited; Sherwood TopCo Limited.
20251785 | G | E3T1, LP; Andy J. Egan Co., Inc.; E3T1, LP.
20251792 | G | BDT Capital Partners Fund 4-X, L.P.; BlackRock Long Term Private Capital, SCSp; BDT Capital Partners Fund 4-X, L.P.
20251793 | G | CP Holdings I LLC; Graypoint LLC; CP Holdings I LLC.
20251794 | G | Pentair plc; Madison Industries Holdings LLC; Pentair plc.
09/16/2025
20251749 | G | CB ML Co-Invest, L.P.; Thoma Bravo Discover Fund, L.P.; CB ML Co-Invest, L.P.
20251760 | G | Cenovus Energy Inc.; MEG Energy Corp.; Cenovus Energy Inc.
20251766 | G | Eighth Cinven Fund Aggregator SCSp; Accel-KKR Capital Partners V, LP; Eighth Cinven Fund Aggregator SCSp.
20251770 | G | EQT X Agent Side Car (EUR) SCSp; Warburg Pincus Global Growth, L.P.; EQT X Agent Side Car (EUR) SCSp.
20251775 | G | Accenture plc; Thomas Brett Chisholm and Christine Chisholm; Accenture plc.
20251839 | G | Hubbell Incorporated; Golden Gate Capital Opportunity Fund, L.P.; Hubbell Incorporated.
20251855 | G | Martin Marietta Materials, Inc.; Quikrete Holdings, Inc; Martin Marietta Materials, Inc.
20251856 | G | Quikrete Holdings, Inc; Martin Marietta Materials, Inc.; Quikrete Holdings, Inc.
09/17/2025
20251800 | G | Jeffrey Broin; Green Plains Inc.; Jeffrey Broin.
09/19/2025
20251779 | G | The Resolute Fund VI, L.P.; Sky Blue Holdings, Inc.; The Resolute Fund VI, L.P.
20251807 | G | Thomas H. Lee Parallel Fund IX, L.P.; KKR Health Care Strategic Growth Fund L.P.; Thomas H. Lee Parallel Fund IX, L.P.
20251817 | G | TA XV-B, L.P.; FinQuery, LLC; TA XV-B, L.P.
20251822 | G | MannKind Corporation; scPharmaceuticals Inc.; MannKind Corporation.
20251843 | G | Phreesia, Inc.; Frontier Fund IV, L.P.; Phreesia, Inc.
20251862 | G | Picard Holdco, Inc.; Carlyle Partners VI Cayman, L.P.; Picard Holdco, Inc.
09/23/2025
20251861 | G | SoftBank Group Corporation; Intel Corporation; SoftBank Group Corporation.
09/24/2025
20251804 | G | Nautic Partners XI-A, L.P.; HCP Fresh Investors, L.P.; Nautic Partners XI-A, L.P.
20251818 | G | AIPCF VIII Indirect Investor AIV LP; International Paper Company; AIPCF VIII Indirect Investor AIV LP.
20251819 | G | Bloom Topco SAS; Eiffel 65 SAS; Bloom Topco SAS.
20251820 | G | Voltron Aggregator L.P.; Hellman & Friedman Capital Partners IX, L.P.; Voltron Aggregator L.P.
20251830 | G | Palo Alto Networks, Inc.; CyberArk Software Ltd.; Palo Alto Networks, Inc.
20251833 | G | Prism Group Parent, LP; Catterton Partners EVF VI, L.P.; Prism Group Parent, LP.
20251837 | G | Bain Capital Europe Fund VI, SCSp; Falkenstein Holdco B.V.; Bain Capital Europe Fund VI, SCSp.
20251854 | G | General Atlantic Partners AIV-1 B, L.P.; Bathe in the Sea of Life, Inc.; General Atlantic Partners AIV-1 B, L.P.
09/26/2025
20250438 | G | Lifespan Corporation; Brown Physicians, Inc.; Lifespan Corporation.
09/29/2025
20251786 | G | LS Power Equity Partners Renewable V AIV, L.P.; BP p. l.c; LS Power Equity Partners Renewable V AIV, L.P.
20251845 | G | Yucaipa American Alliance Fund II, LP; Soho House & Co Inc.; Yucaipa American Alliance Fund II, LP.
20251846 | G | Yucaipa American Alliance (Parallel) Fund II, L.P.; Soho House & Co Inc.; Yucaipa American Alliance (Parallel) Fund II, L.P.
20251850 | G | Kinderhook Capital Waste CV, L.P.; Kinderhook Capital Fund VI, L.P.; Kinderhook Capital Waste CV, L.P.
20251865 | G | Mike Sarian; Sang Bum (Samuel) Lee; Mike Sarian.
20251867 | G | Dairyland Power Cooperative; Mubadala Investment Company PJSC; Dairyland Power Cooperative.
20251873 | G | Robert Bosch GmbH; Gaylon Lawrence Jr.; Robert Bosch GmbH.
20251881 | G | MBK Partners Fund VI, L.P.; Makino Milling Machine Co., Ltd.; MBK Partners Fund VI, L.P.
20251882 | G | Lennox International Inc.; Sentinel Capital Partners VII, L.P.; Lennox International Inc.
20251883 | G | MAI Galway Holdings LP; Evoke Holdings, LLC; MAI Galway Holdings LP.
20251891 | G | BDO USA, P.C.; Horne LLP; BDO USA, P.C.
10/24/2025
20251149 | G | Alphabet Inc.; Wiz, Inc.; Alphabet Inc.
10/31/2025
20260047 | G | Pfizer Inc.; Metsera, Inc.; Pfizer Inc.
11/12/2025
20251110 | S | SoftBank Corp.; Ampere Computing Holdings LLC; SoftBank Corp.
11/14/2025
20250841 | S | Valvoline Inc.; Greenbriar Equity Fund V, L.P.; Valvoline Inc.
11/21/2025
20251955 | G | Xplor Technologies, LLC; Clubessential Holdings, LLC; Xplor Technologies, LLC.
12/02/2025
20260200 | G | Vertiv Holdings Co.; Purge Rite Holdings, LLC; Vertiv Holdings Co.
20260201 | G | Bristol-Myers Squibb Company; Orbital Therapeutics, Inc.; Bristol-Myers Squibb Company.
20260212 | G | The Resolute Fund VI, L.P.; Javelin Holdco, LLC; The Resolute Fund VI, L.P.
20260213 | G | Littelfuse, Inc.; Basler Holdings, LLC; Littelfuse, Inc.
20260214 | G | Littlejohn Fund VI, L.P.; Pareto Efficient Solutions, LLC; Littlejohn Fund VI, L.P.
20260217 | G | Novo Nordisk Foundation; Akero Therapeutics, Inc.; Novo Nordisk Foundation.
20260227 | G | Stewart Information Services Corporation; Lender MCS Holdings, Inc.; Stewart Information Services Corporation.
20260229 | G | Greencore Group plc; Bakkavor Group Plc; Greencore Group plc.
20260230 | G | BioCryst Pharmaceuticals, Inc.; Astria Therapeutics, Inc.; BioCryst Pharmaceuticals, Inc.
20260231 | G | Runway Growth Finance Corp.; Double Black Diamond Offshore, Ltd.; Runway Growth Finance Corp.
20260233 | G | GE Vernova Inc.; Xignux, S.A. de C.V.; GE Vernova Inc.
20260234 | G | Macquarie Group Limited; TRF IV 2020 (Unblocked), L.P.; Macquarie Group Limited.
20260238 | G | LLCP Lower Middle Market Fund III, L.P.; USA Industries Holdings, LLC; LLCP Lower Middle Market Fund III, L.P.
12/03/2025
20260243 | G | Intercontinental Exchange, Inc.; Bakkt Holdings, Inc.; Intercontinental Exchange, Inc.
20260252 | G | Love's Solutions, LLC; Jason Tilroe; Love's Solutions, LLC.
20260253 | G | VFN Holdings, Inc.; Telephone Electronics Corporation; VFN Holdings, Inc.
20260254 | G | The Voting Shares Irrevocable Trust; FCP Fund Manager, L.P.; The Voting Shares Irrevocable Trust.
20260262 | G | Homerun Blocker Holdings, Inc.; Excel Sports Management, LLC; Homerun Blocker Holdings, Inc.
20260264 | G | LVJ Holdings LLC; Mitsubishi Heavy Industries, Ltd.; LVJ Holdings LLC.
20260269 | G | Bain Capital Fund XIV, L.P.; Saber Parent Holdings LP; Bain Capital Fund XIV, L.P.
20260278 | G | Element Solutions Inc.; Pavel Perlov; Element Solutions Inc.
20260283 | G | Gary Dickerson; Applied Materials, Inc.; Gary Dickerson.
20260288 | G | Behrman Capital Fund VII L.P.; Moog Inc.; Behrman Capital Fund VII L.P.
20260314 | G | Audax Private Equity Fund VII-B, L.P.; Adeline Price Mathes; Audax Private Equity Fund VII-B, L.P.
12/05/2025
20260036 | G | PX3 Partners Cyber LP; Clearlake Capital Partners VI, L.P.; PX3 Partners Cyber LP.
20260218 | G | Lissette Amiel; BP p.l.c.; Lissette Amiel.
20260226 | G | CSC Comfort Co-Invest Aggregator, L.P.; Suncrest Health Services, LLC; CSC Comfort Co-Invest Aggregator, L.P.
12/08/2025
20260221 | G | Taseer A. Badar; MD Automotive Group LLC; Taseer A. Badar.
20260246 | G | A&M Capital Partners III, L.P.; Varsity Surgical Affiliates Management Group, L.P.; A&M Capital Partners III, L.P.
20260273 | G | Karthik and Sneha Polsani; GC Equity Partners Fund III, L. P.; Karthik and Sneha Polsani.
20260274 | G | Exxon Mobil Corporation; Enterprise Products Partners L.P.; Exxon Mobil Corporation.
20260275 | G | Element Solutions Inc; Celanese Corporation; Element Solutions Inc.
20260290 | G | Gauge Capital IV LP; Reliable Medical Supply Holdco LLC; Gauge Capital IV LP.
20260301 | G | Jabil Inc.; Clive Gilmore; Jabil Inc.
20260302 | G | Jabil Inc.; Dennis Nordon; Jabil Inc.
20260309 | G | WndrCo, LLC; Point Wild Holdings, Inc.; WndrCo, LLC.
20260310 | G | Stone Ridge Energy Acquisition Fund III LP; Baytex Energy Corp.; Stone Ridge Energy Acquisition Fund III LP.
20260316 | G | TL Cosmo TopCo, LLC; WestView Capital Partners IV, L.P.; TL Cosmo TopCo, LLC.
20260317 | G | IonQ, Inc.; Skyloom Global Corp.; IonQ, Inc.
20260323 | G | Lone Star Fund XII, L.P.; Hillenbrand, Inc.; Lone Star Fund XII, L.P.
20260341 | G | Ridgemont Equity Partners IV, L.P.; Reverence Capital Partners Opportunities Fund II, L.P.; Ridgemont Equity Partners IV, L.P.
20260362 | G | Stefan E. Brodie; Heartwood Partners III, LP; Stefan E. Brodie.
12/09/2025
20260258 | G | Commercial Metals Company; Frank D. Foley III; Commercial Metals Company.
20260268 | G | Bending Spoons S.p.A.; AP IX College Holdings, L.P.; Bending Spoons S.p.A.
20260295 | G | BPEA Private Equity Fund VIII, L.P.; Plano Aggregator, Ltd.; BPEA Private Equity Fund VIII, L.P.
20260306 | G | GEI IX TG AIV, L.P.; Topgolf Callaway Brands Corp.; GEI IX TG AIV, L.P.
12/17/2025
20260284 | G | CompoSecure, Inc.; Platinum Equity Capital Partners International IV; CompoSecure, Inc.
20260289 | G | Toreador Evergreen Holdings, LLC; BP p.l.c.; Toreador Evergreen Holdings, LLC.
20260296 | G | Audax Private Equity Fund VII-B, L.P.; Peak Rock Capital Fund III LP; Audax Private Equity Fund VII-B, L.P.
20260298 | G | Sixth Street TAO Partners (C), L.P.; Global Lending Services LLC; Sixth Street TAO Partners (C), L.P.
20260299 | G | Sixth Street Opportunities Partners VI (A), L.P.; BP p.l.c.; Sixth Street Opportunities Partners VI (A), L.P.
20260304 | G | The Rise Fund III DE AIV I, LP; RMCF VI AIV I, L.P.; The Rise Fund III DE AIV I, LP.
20260312 | G | Mariana US Aggregator, L.P.; Aligned Energy Holdings, L.P.; Mariana US Aggregator, L.P.
20260313 | G | Platinum Equity Capital Partners International IV (Cayman); CompoSecure, Inc.; Platinum Equity Capital Partners International IV (Cayman).
20260321 | G | Hopper TopCo LP; Hologic, Inc.; Hopper TopCo LP.
20260324 | G | Browning West Cayman Fund LP; The Cooper Companies, Inc.; Browning West Cayman Fund LP.
20260327 | G | ModivCare Topco, LLC; ModivCare, Inc.; ModivCare Topco, LLC.
20260330 | G | Greenbriar Equity Fund VI, L.P.; REP eShip Holdings, L.P.; Greenbriar Equity Fund VI, L.P.
20260336 | G | Excalibur WR Aggregator, L.P.; Excalibur Topco, L.P.; Excalibur WR Aggregator, L.P.
20260338 | G | Kimmeridge Energy Engagement Partners III, LP; Devon Energy Corporation; Kimmeridge Energy Engagement Partners III, LP.
20260348 | G | Solventum Corporation; Wilson Family Legacy Trust No. 1; Solventum Corporation.
20260351 | G | Novartis AG; Avidity Biosciences, Inc.; Novartis AG.
20260374 | G | Francisco Partners VII-A, L.P.; JAMF Holding Corp.; Francisco Partners VII-A, L.P.
20260385 | G | Five Arrows Principal Investments IV SCSp SICAV-RAIF; Accel-KKR Emerging Buyout Partners, LP; Five Arrows Principal Investments IV SCSp SICAV-RAIF.
20260387 | G | Ryerson Holding Corporation; Olympic Steel, Inc.; Ryerson Holding Corporation.
20260389 | G | KBR, Inc.; ORIX Corporation; KBR, Inc.
20260390 | G | Endurance HoldingCo, LLC; ORIX Corporation; Endurance HoldingCo, LLC.
20260393 | G | Livewire Holdings, LP; BP I LM Aggregator LP; Livewire Holdings, LP.
20260396 | G | Cameron Brokerage, LLC; The Anthony L. Johnson Revocable Trust u/a/d August 10, 2023; Cameron Brokerage, LLC.
20260399 | G | The Andover Companies, Inc.; Cambridge Mutual Insurance Holding Company; The Andover Companies, Inc.
20260418 | G | Haymaker Acquisition Corp. 4; Dothan Concrete Investors, LLC; Haymaker Acquisition Corp. 4.
20260427 | G | Carlyle Partners VIII Lux, S.C.Sp.; BASF SE; Carlyle Partners VIII Lux, S. C.Sp.
12/18/2025
20260110 | G | NVIDIA Corporation; Intel Corporation; NVIDIA Corporation.
20260267 | G | Eric Boyko; TuneIn Holdings, Inc.; Eric Boyko.
20260303 | G | Zachary Horn; Cable One, Inc.; Zachary Horn.
20260349 | G | KPS Special Situations Fund V, LP; Albemarle Corporation; KPS Special Situations Fund V, LP.
20260357 | G | Delta Air Lines, Inc.; Joby Aviation, Inc.; Delta Air Lines, Inc.
20260375 | G | Palomar Holdings, Inc.; BCP Fund II, LP; Palomar Holdings, Inc.
20260377 | G | Vista Equity Partners Fund VIII-A, L.P.; Nexthink SA; Vista Equity Partners Fund VIII-A, L.P.
20260378 | G | Gemspring Capital Fund III, LP; TruWest Company LLC; Gemspring Capital Fund III, LP.
20260379 | G | Federation des caisses Desjardins du Quebec; Guardian Capital Group Limited; Federation des caisses Desjardins du Quebec.
20260381 | G | SM Energy Company; Civitas Resources, Inc.; SM Energy Company.
20260392 | G | Marc Lore; Sweetgreen, Inc.; Marc Lore.
20260400 | G | Bridger Pipeline LLC; Caliber MFC, LLC; Bridger Pipeline LLC.
20260401 | G | Carronade Capital Master, LP; Viasat Inc.; Carronade Capital Master, LP.
20260407 | G | Empath-Stratum, Inc.; AHP Orchards LLC; Empath-Stratum, Inc.
20260414 | G | Scott Rudolph 2019 Business Trust; Church & Dwight Co., Inc.; Scott Rudolph 2019 Business Trust.
20260416 | G | Rubicon Fund II LP; dMedClinical Company Limited; Rubicon Fund II LP.
20260420 | G | Targa Resources Corp.; EnCap Flatrock Midstream Fund III, L.P.; Targa Resources Corp.
12/19/2025
20260140 | G | Novacap International TMT VI Co-Investment (Igloo), L.P.; Integral Ad Science Holding Corp.; Novacap International TMT VI Co-Investment (Igloo), L.P.
20260204 | G | Rayonier Inc.; PotlatchDeltic Corporation; Rayonier Inc.
20260424 | G | Project Everest Ultimate Parent, LLC; PROS Ultimate Parent, LP; Project Everest Ultimate Parent, LLC.
20260430 | G | Tokyo Electric Power Company Holdings, Inc.; The Williams Companies, Inc.; Tokyo Electric Power Company Holdings, Inc.
20260431 | G | Chubu Electric Power Co., Inc.; The Williams Companies, Inc.; Chubu Electric Power Co., Inc.
20260433 | G | Tokyo Electric Power Company Holdings, Inc.; Margaret Woodward Molleston; Tokyo Electric Power Company Holdings, Inc.
20260434 | G | Tokyo Electric Power Company Holdings, Inc.; George Bishop; Tokyo Electric Power Company Holdings, Inc.
20260435 | G | Chubu Electric Power Co., Inc.; Margaret Woodward Molleston; Chubu Electric Power Co., Inc.
20260436 | G | Chubu Electric Power Co., Inc.; George Bishop; Chubu Electric Power Co., Inc.
20260440 | G | Eli Lilly and Company; ABL Bio Inc.; Eli Lilly and Company.
20260442 | G | Crane Harbor Sponsor, LLC; Xanadu Quantum Technologies Inc.; Crane Harbor Sponsor, LLC.
20260444 | G | AP Pour Holdings, L.P.; Keurig Dr Pepper Inc.; AP Pour Holdings, L.P.
20260447 | G | KKR Pour Aggregator L.P.; Keurig Dr Pepper Inc.; KKR Pour Aggregator L.P.
20260449 | G | Smith Family Voting Trust; Bessemer Securities LLC; Smith Family Voting Trust.
20260455 | G | Merck & Co., Inc.; Cidara Therapeutics, Inc.; Merck & Co., Inc.
20260460 | G | TPG X DE AIV I, L.P.; PTC Inc.; TPG X DE AIV I, L.P.
20260464 | G | Investor AB; Organon & Co.; Investor AB.
12/23/2025
20260358 | G | ACP Vault, LP; US Fertility Holdings, LLC; ACP Vault, LP.
20260360 | G | WP Deluxe Apexco LP; Matthews International Corporation; WP Deluxe Apexco LP.
20260361 | G | US Fertility Holdings, LLC; ACP Vault, LP; US Fertility Holdings, LLC.
20260367 | G | Kenneth B. Dart; Flutter Entertainment plc; Kenneth B. Dart.
20260391 | G | LongRange Capital Fund I, L.P.; All Day Holdings LLC; LongRange Capital Fund I, L.P.
20260445 | G | Republic Services, Inc.; Quikrete Holdings, Inc; Republic Services, Inc.
20260456 | G | The Charles Schwab Corporation; Forge Global Holdings, Inc.; The Charles Schwab Corporation.
20260458 | G | MCR Hospitality Fund IV LP; Soho House & Co Inc.; MCR Hospitality Fund IV LP.
20260479 | G | Investindustrial VIII S.C.Sp.; TreeHouse Foods, Inc.; Investindustrial VIII S.C.Sp.
20260489 | G | Nautic Partners XI-A, L.P.; Senderra RX Parent, LLC; Nautic Partners XI-A, L.P.
20260497 | G | Windjammer Capital Fund VI, L.P.; Platte River Equity III, L.P.; Windjammer Capital Fund VI, L.P.
20260507 | G | Clayton, Dubilier & Rice Fund XII, L.P.; Sealed Air Corporation; Clayton, Dubilier & Rice Fund XII, L.P.
20260523 | G | Airbus SE; Platinum Equity Small Cap Fund, L.P.; Airbus SE.
01/06/2026
20260250 | G | Boyd Group Services Inc.; JHCC Holdings Parent LLC; Boyd Group Services Inc.
01/09/2026
20260439 | G | Mitsubishi Electric Corporation; Nozomi Networks, Inc.; Mitsubishi Electric Corporation.
20260470 | G | Raymond James Financial, Inc.; GreensLedge Holdings LLC; Raymond James Financial, Inc.
20260473 | G | Douglas B. Petno; JPMorgan Chase & Co.; Douglas B. Petno.
20260487 | G | Tata Sons Private Limited; Coastal Cloud Holdings, LLC; Tata Sons Private Limited.
20260511 | G | Worthington Enterprises, Inc.; Robert L. Baker and Kimberly L. Baker; Worthington Enterprises, Inc.
20260512 | G | Permira VIII-1 SCSp; JTC plc; Permira VIII-1 SCSp.
20260518 | G | Kingswood Capital Opportunities Fund III, L.P.; Safran S.A.; Kingswood Capital Opportunities Fund III, L.P.
20260524 | G | Matthew J. Meloy; Targa Resources Corp.; Matthew J. Meloy.
20260527 | G | David D. Smith; Asbury Automotive Group, Inc.; David D. Smith.
20260536 | G | Mr. Edward Pick; Morgan Stanley; Mr. Edward Pick.
20260540 | G | Robert Skillington; Palo Alto Networks, Inc.; Robert Skillington.
20260541 | G | Martin Mao; Palo Alto Networks, Inc.; Martin Mao.
20260542 | G | Palo Alto Networks, Inc.; Chronosphere, Inc.; Palo Alto Networks, Inc.
20260544 | G | Davidson Kempner Opportunities International VII (AIV-TE) LP; Zenith Energy U.S., L.P.; Davidson Kempner Opportunities International VII (AIV-TE) LP.
01/16/2026
20260403 | G | HoldCo Opportunities Fund V, L.P.; Fifth Third Bancorp; HoldCo Opportunities Fund V, L.P.
20260547 | G | Christopher Pavlovski; Giancarlo Devasini; Christopher Pavlovski.
20260549 | G | Capvest Strategic Opportunities 12 SCSP; Capvest Strategic Opportunities 2 SCSP; Capvest Strategic Opportunities 12 SCSP.
20260554 | G | Incline Equity Partners VI, L. P.; Committed Advisors Secondary Fund III, SLP; Incline Equity Partners VI, L.P.
20260559 | G | Alamo Group Inc.; Woodrow C. Hardee; Alamo Group Inc.
20260560 | G | Alamo Group Inc.; Samuel S. Petersen; Alamo Group Inc.
20260561 | G | Crestview Partners IV, L.P.; Tailwind Holdings LP; Crestview Partners IV, L.P.
20260567 | G | Standard Latitude Fund LP; Ashland Inc.; Standard Latitude Fund LP.
20260568 | G | Virtus Investment Partners, Inc.; Keystone National Group, LLC; Virtus Investment Partners, Inc.
20260570 | G | Accenture plc; David Quirk; Accenture plc.
20260578 | G | Kent Furlong; Blue Danube Incorporated; Kent Furlong.
20260583 | G | RoundTable Healthcare Partners VI, L.P.; Colorescience, Inc.; RoundTable Healthcare Partners VI, L.P.
20260589 | G | Five Arrows Long Term SCSp; Spartan Holdco Pty Ltd; Five Arrows Long Term SCSp.
20260593 | G | ISQ Energy Transition Fund (EU) Euro SCSp; Zenith Energy U.S., L.P.; ISQ Energy Transition Fund (EU) Euro SCSp.
20260602 | G | Perceptive Capital Solutions Corp; Freenome Holdings, Inc.; Perceptive Capital Solutions Corp.
20260603 | G | Carnival Corporation; Carnival plc; Carnival Corporation.
20260615 | G | Thunderbolt Topco Holdings, LP; OneSource Virtual, Inc.; Thunderbolt Topco Holdings, LP.
20260628 | G | APi Group Corporation; TRC CFP, LLC; APi Group Corporation.
20260638 | G | Cartesian Growth Corporation III; Factorial Inc.; Cartesian Growth Corporation III.
20260644 | G | Gibraltar Industries, Inc.; Strategic Value Special Situations Feeder Fund IV, L. P.; Gibraltar Industries, Inc.
01/21/2026
20251614 | G | Illumina, Inc.; Standard BioTools, Inc.; Illumina, Inc.
20260566 | G | Green Dot Acquisition Partners, LP; Green Dot Corporation; Green Dot Acquisition Partners, LP.
20260573 | G | David Lazovsky; Marvell Technology, Inc.; David Lazovsky.
20260574 | G | Marvell Technology, Inc.; Celestial AI, Inc.; Marvell Technology, Inc.
20260576 | G | Round Hill Music Encore Fund LP; Round Hill Music Royalty Fund II LP; Round Hill Music Encore Fund LP.
20260584 | G | ArcLight Energy Partners Fund VII, L.P.; IIF US Holding 2 LP; ArcLight Energy Partners Fund VII, L.P.
20260645 | Y | Herschend Family Entertainment Corporation; Gary Norton; Herschend Family Entertainment Corporation.
20260655 | G | PrimeFlight Investments, LP; Atlantic Street Capital III, LP; PrimeFlight Investments, LP.
01/28/2026
20260604 | G | Eugenie Patri Sebastien EPS, SA; Newco; Eugenie Patri Sebastien EPS, SA.
20260607 | G | Jorge Paulo Lemann; Newco; Jorge Paulo Lemann.
20260635 | G | Matrix IT Ltd.; Magic Software Enterprises Ltd.; Matrix IT Ltd.
20260649 | G | Coforge Limited; AI Global Investments (Cyprus) PCC Limited; Coforge Limited.
20260650 | G | Trane Technologies plc; The Santiago Trust; Trane Technologies plc.
20260651 | G | Trane Technologies plc; Peter J. Gibson; Trane Technologies plc.
20260657 | G | MasTec, Inc.; BCM Fund II, LP; MasTec, Inc.
20260660 | G | Harbour Energy plc; Gerald A. Boelte Trust; Harbour Energy plc.
20260661 | G | Arctic Slope Regional Corporation; AP VIII Aspen Holdings, L.P.; Arctic Slope Regional Corporation.
20260662 | G | Valor Equity Partners VII-B L.P.; Elon R. Musk; Valor Equity Partners VII-B L.P.
20260663 | G | Valor Equity Partners VII L.P.; Elon R. Musk; Valor Equity Partners VII L.P.
20260664 | G | CV Consortio Fund L.P.; Elon R. Musk; CV Consortio Fund L.P.
20260679 | G | Onex Partners Leaf CV LP; Onex Baltimore Aggregator LP; Onex Partners Leaf CV L.P.
20260687 | G | Wind Point Partners XI-A, L.P.; LJ Falcon Holdco LP; Wind Point Partners XI-A, L.P.
20260690 | G | The Resolute Fund VI, L.P.; Artemis Capital Partners III, LP; The Resolute Fund VI, L.P.
20260692 | G | Clayton, Dubilier & Rice Fund XI, L.P.; Audax Private Equity Fund V-A, L.P.; Clayton, Dubilier & Rice Fund XI, L.P.
01/30/2026
20251710 | S | Performance Food Group Company; Thomas J. Henning; Performance Food Group Company.

FOR FURTHER INFORMATION CONTACT: Theresa Kingsberry (202-326-3100), Program Support Specialist, Federal Trade Commission, Bureau of Competition, Premerger Notification Office, Room CC-5301, Washington, DC 20024.

By direction of the Commission.
Joel Christie,
Acting Secretary.

[FR Doc. 2026-03244 Filed 2-18-26; 8:45 am]

BILLING CODE 6750-01-P